DEPARTMENT OF AGRICULTURE

Natural Resources Conservation Service

[Docket No. NRCS-2015-0003]

Notice of Proposed Changes to the National Handbook of Conservation Practices for the Natural Resources Conservation Service

AGENCY: Natural Resources Conservation Service (NRCS), USDA.

ACTION: Notice of availability of proposed changes in the NRCS National Handbook of Conservation Practices for public review and comment.

SUMMARY: Notice is hereby given of the intention of NRCS to issue a series of revised conservation practice standards in the National Handbook of Conservation Practices. These standards include: Amending Soil Properties with Gypsum Products (Code 333), Animal Mortality Facility (Code 316), Contour Orchards and Other Perennial Crops (Code 331), Controlled Traffic Farming (Code 334), Denitrifying Bioreactor (Code 605), Emergency Animal Mortality Management (Code 368), Field Operations Emissions Reduction (Code 376), Forest Stand Improvement (Code 666), Herbaceous Wind Barriers (Code 603), Irrigation System, Micro-irrigation (Code 441), Roofs and Covers (Code 367), Sprinkler System (Code 442), Vegetated Treatment Area (Code 635), and Vegetative Barrier (Code 601).

NRCS State Conservationists who choose to adopt these practices for use within their States will incorporate them into Section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: This is effective May 6, 2015. Submit comments on or before June 5, 2015. Final versions of these new or revised conservation practice standards will be adopted after the close of the 30-day period and after consideration of all comments.

ADDRESSES: Mail or hand-deliver comments to Public Comments Processing, Attention: Regulatory and Agency Policy Team, Strategic Planning and Accountability, Natural Resources Conservation Service, 5601 Sunnyside Avenue, Building 1-1112D, Beltsville, Maryland 20705. Submit electronic comments via the Federal eRulemaking Portal at http://www.regulations.gov. All submitted comments should be identified by Docket Number NRCS-2015-0003.

NRCS will post all comments on http://www.regulations.gov. In general, personal information provided with comments will be posted. If your comment includes your address, phone number, email, or other personal identifying information, your comments, including personal information, may be available to the public. You may ask in your comment that your personal identifying information be withheld from public view, but this cannot be guaranteed.

FOR FURTHER INFORMATION CONTACT: Wayne Bogovich, Natural Resources Conservation Service, 1400 Independence Avenue Southwest, South Building, Room 6136, Washington, DC 20250.

Electronic copies of the proposed revised standards are available through http://www.regulations.gov by accessing Docket No. NRCS-2015-0003. Alternatively, copies can be downloaded or printed from the following Web site: http://go.usa.gov/TXye. Requests for paper versions or inquiries may be directed to Emil Horvath, Natural Resources Conservation Service, Central National Technology Support Center, 501 West Felix Street, Fort Worth, Texas 76115.

SUPPLEMENTARY INFORMATION: The amount of the proposed changes varies considerably for each of the conservation practice standards addressed in this notice. To fully understand the proposed changes, individuals are encouraged to compare these changes with each standard's current version as shown at: http://www.nrcs.usda.gov/wps/portal/nrcs/detailfull/national/technical/cp/ncps/?cid=nrcs143026849. To aid in this comparison, the following are highlights of some of the proposed revisions to each standard:

Amending Soil Properties with Gypsum Products (Code 333): This is a new conservation practice standard using the technology of gypsum products to improve soil structure, and to reduce phosphorus runoff from fields and buffer areas.

Animal Mortality Facility (Code 316): Criteria for catastrophic animal mortality has been removed and placed in Emergency Animal Mortality Management (368). The information provided on composting has been expanded. The language was changed to improve the readability of the standard.

Contour Orchards and Other Perennial Crops (Code 331): Wind erosion was removed as one of the purposes, and the technology addresses only sheet and rill erosion from water. Edits were made to the purposes to align with NRCS' list of natural resource concerns. The criteria for additional temporary erosion control measures on sites that are disturbed was added. The allowable contour row grade was reduced from 10 percent to 4 percent. The criteria to improve sediment trapping on the slopes of inward-sloping benches was added. Minor edits where made throughout the standard to improve clarity.

Controlled Traffic Farming (Code 334): This is a new conservation practice where heavy axle loads are confined to designated lanes or tramlines that will cover no more than 33 percent of the surface area of the field. The primary purpose is to reduce soil compaction.

Denitrifying Bioreactor (Code 605): This proposed National standard is based on interim standards from Illinois and Iowa. These States have been using and refining this standard since 2009. As the interim standards are revised each year, new data becomes available. This summary of changes is brief.

Emergency Animal Mortality Management (Code 368): This is a new conservation practice standard defined as a means or method for the management of animal carcasses from catastrophic mortality events.

Field Operations Emissions Reduction (Code 376): This is a new conservation practice standard to address air particulate emissions (10 micrometers in diameter or smaller), especially in designated air quality impaired zones. The standard provides criteria to reduce emission of particulate matter from field operations; primarily from tillage and harvest operations.

Forest Stand Improvement (Code 666): The agency added new language to the definition: “. . . to achieve a desired future condition or obtain ecosystem services.” Two purposes that refer to forest products where deleted because they do not refer to an environmental benefit. Purposes that refer to renewable energy systems, and aesthetics and recreation are moved to “Considerations” because they are not primary purposes for this practice. NRCS changed “Conditions where Practice Applies” from “All Forest land”, (with exceptions for some agroforestry practices), to “All land where the quantity and quality of trees can be enhanced.” Under “General Criteria Applicable to All Purposes,” NRCS changed the emphasis from silvicultural systems to achieving desired future conditions by altering the species composition or tree density. “Additional Criteria to Improve and Sustain Forest Health and Productivity” were added. Several new “Considerations” were added, including descriptions of silvicultural and carbon sequestration options. Several new references were also added.

Herbaceous Wind Barriers (Code 603): The purpose and criteria to enhance snow deposition was removed because the vegetation during the winter period is not conducive to uniform snow deposition. Minor edits were made throughout the standard to improve clarity. The criteria for barrier height for the wind erosion period was increased to 1.5 feet from 0.5 feet.

Irrigation System, Micro-irrigation (Code 441): The purpose of reduced energy use was removed. It would not be the primary purpose of planning a micro-irrigation system. There are also some minor editorial changes.

Roofs and Covers (Code 367): The definition for the “Roofs and Covers” practice added agrichemical handling facilities to the waste management facilities specified. Criteria was added to include treated wood products and the type of associated fasteners, as was a table for geomembrane materials specified by cover purpose. Criteria was also added for appurtenant equipment associated with cover over liquid manure storage facilities for the safe collection, conveyance, treatment, or utilization of biogases.

Sprinkler System (Code 442): “In absence of manufacturer's recommendations for pressure regulator operation, ensure line pressure upstream of regulators is at least 5 psi above rated regulator pressure” was added. There are also some minor editorial changes.

Vegetated Treatment Area (Code 635): This standard was edited to improve clarity. Additionally, criteria was added to address pretreatment and erosion control measures, and the minimum flow length that affected the design of small facilities was removed.

Vegetative Barrier (Code 601): The purpose and the criteria to use the vegetative barrier to control concentrated flow erosion was removed due to poor performance. Minor edits here made throughout the standard to improve clarity.

Signed this 22nd day of April, 2015, in Washington, DC.
Jason A. Weller,
Chief, Natural Resources Conservation Service.

[FR Doc. 2015-10476 Filed 5-5-15; 8:45 am]

BILLING CODE 3410-16-P